DEPARTMENT OF AGRICULTURE

Office of the Secretary

7 CFR Part 2

Establishment of Office of the Chief Scientist; Revision of Delegations of Authority

AGENCY: Office of the Secretary, USDA.

ACTION: Final rule.

SUMMARY: This document amends the delegations of authority within the Department of Agriculture (USDA) to reflect the establishment of the Office of the Chief Scientist within the Research, Education, and Economics (REE) mission area of USDA, and to identify the authorities of the Under Secretary for REE (Chief Scientist of the Department) and the Director of the Office of the Chief Scientist with respect to scientific integrity within USDA and the coordination of agricultural research, education, and extension programs and activities.

DATES: This rule is effective February 28, 2011.

FOR FURTHER INFORMATION CONTACT: Chavonda Jacobs-Young, Director, Office of the Chief Scientist, United States Department of Agriculture, 1400 Independence Ave., SW., Washington, DC 20250, or telephone: (202) 720-3444.

SUPPLEMENTARY INFORMATION:

Establishment of the Office of the Chief Scientist

On March 16, 2010, the Secretary of Agriculture (Secretary) established the Office of the Chief Scientist (OCS) within the Research, Education, and Economics (REE) mission area of USDA. For further information, see Secretary's Memorandum 1066-001, “Establishment of the Office of the Chief Scientist.” OCS exists to provide leadership and coordination to ensure that research supported by and scientific advice provided to USDA and external stakeholders are held to the highest standards of intellectual rigor and scientific integrity. OCS also assists the Under Secretary for REE in coordinating the agricultural research, education, and extension activities of the Department through a series of divisions focused on renewable energy, natural resources, and environment; food safety, nutrition, and health; plant health and production and plant products; animal health and production and animal products; agricultural systems and technology; and agricultural economics and rural communities.

OCS is headed by a Director that reports to the Under Secretary for REE. Pursuant to section 251(c) of the Department of Agriculture Reorganization Act of 1994 (Reorganization Act) (7 U.S.C. 6971(c)), as amended by section 7511 of the Food, Conservation, and Energy Act of 2008, Public Law 110-246, the Under Secretary for REE also holds the title of Chief Scientist of the Department (Chief Scientist).

This rule amends the delegations of authority in 7 CFR 2.21 to reflect that the Under Secretary for REE, as the Chief Scientist, is delegated primary responsibility for ensuring that research and scientific advice are held to the highest standards of intellectual rigor and scientific integrity. The Under Secretary for REE, as the Chief Scientist, is also responsible for coordinating the agricultural research, education, and extension activities of the Department pursuant to sections 251(c)(2) and 251(d)(2) of the Reorganization Act (7 U.S.C. 6971(c)(2), (d)(2)). This rule also adds a new 7 CFR 2.69 to reflect the establishment of OCS and to delegate to the Director of OCS the authority to assist the Chief Scientist in carrying out its responsibilities.

Classification

This rule relates to internal agency management. Accordingly, pursuant to 5 U.S.C. 553, notice of proposed rulemaking and opportunity for comment are not required, and this rule may be made effective less than 30 days after publication in the Federal Register. This rule also is exempt from the provisions of Executive Orders 12866 and 12988. This action is not a rule as defined by the Regulatory Flexibility Act, Public Law 96-354, and the Small Business Regulatory Fairness Enforcement Act, 5 U.S.C. 801 et seq., and thus is exempt from the provisions of those Acts. This rule contains no information collection or recordkeeping requirements under the Paperwork Reduction Act of 1995 (44 U.S.C. 3501 et seq.).

List of Subjects in 7 CFR Part 2

Authority delegations (Government agencies).

Accordingly, Subtitle A of Title 7 of the Code of Federal Regulations is amended as set forth below:

PART 2—DELEGATIONS OF AUTHORITY BY THE SECRETARY OF AGRICULTURE AND GENERAL OFFICERS OF THE DEPARTMENT

1. The authority citation for Part 2 continues to read as follows:

Authority: 7 U.S.C. 6912(a)(1); 5 U.S.C. 301; Reorganization Plan No. 2 of 1953, 3 CFR 1949-1953 Comp., p. 1024.

Subpart C—Delegations of Authority to the Deputy Secretary, the Under Secretaries, and Assistant Secretaries for Congressional Relations and Administration

2. Amend § 2.21 as follows:

a. Revise paragraph (a) introductory text and the heading of paragraph (a)(1); and

b. Add new paragraphs (a)(11) and (a)(12), to read as follows:

§ 2.21 Under Secretary for Research, Education, and Economics.

(a) The following delegations of authority are made by the Secretary of Agriculture to the Under Secretary for Research, Education, and Economics (who holds the title of Chief Scientist of the Department).

(1) Related to research, extension, and education. * * *

* * * * *

(11) Related to scientific integrity. (i) Provide to the Secretary information on topics that can benefit from scientific input to ensure informed decision-making at the highest levels of Government.

(ii) Facilitate the coordination and collaboration within the Department on high priority science issues that will benefit from intra-Departmental collaboration, including coordinating the assessment of the relevance, quality, performance, and impact of the Department's efforts in science.

(iii) Build partnerships within the scientific community by serving as a point of contact for interactions with other agencies of science, universities, and other external members of the scientific community for the purpose of leveraging and promoting relationships to explore common scientific interests and shared goals.

(iv)Develop mechanisms to address scientific integrity within the Department.

(v) Serve as Chair of the USDA Science Council.

(12) Related to coordination of agricultural research, education, and extension programs and activities. Coordinate the agricultural research, education, and extension activities of the Department pursuant to sections 251(c)(2) and 251(d)(2) of the Department of Agriculture Reorganization Act of 1994 (7 U.S.C. 6971(c)(2), (d)(2)).

* * * * *

Subpart K—Delegations of Authority by the Under Secretary for Research, Education, and Economics

3. Add a new § 2.69 to subpart K, to read as follows:

§ 2.69 Director, Office of the Chief Scientist.

(a) Delegations. Pursuant to § 2.21(a)(11) and (a)(12), the following delegations of authority are made by the Under Secretary for Research, Education, and Economics to the Director, Office of the Chief Scientist.

(1) Provide to the Under Secretary (Chief Scientist of the Department) information on topics that can benefit from scientific input to ensure informed decision-making at the highest levels of Government.

(2) Assist the Chief Scientist with facilitating the coordination and collaboration within the Department on high priority science issues that will benefit from intra-Departmental collaboration, including coordinating the assessment of the relevance, quality, performance, and impact of the Department's efforts in science.

(3) Assist the Chief Scientist with building partnerships within the scientific community and with the Chief Scientist's role as point of contact for interactions with other agencies of science, universities, and other external members of the scientific community for the purpose of leveraging and promoting relationships to explore common scientific interests and shared goals.

(4) Assist the Chief Scientist with developing mechanisms to address scientific integrity within the Department.

(5) [Reserved]

(6) Assist the Chief Scientist in carrying out sections 251(c)(2) and 251(d)(2) of the Department of Agriculture Reorganization Act of 1994 (7 U.S.C. 6971(c)(2), (d)(2)) by exercising the duties set forth in section 25 l(e)(3)(E) of that Act (7 U.S.C. 6971(e)(3)(E)) through a series of divisions organized by the following focus areas:

(i) Renewable energy, natural resources, and environment;

(ii) Food safety, nutrition, and health;

(iii) Plant health and production and plant products;

(iv) Animal health and production and animal products;

(v) Agricultural systems and technology; and

(vi) Agricultural economics and rural communities.

(b) The divisions will be headed by Division Chiefs/Senior Advisors (or a similar title), and will be known collectively as the Research, Education, and Extension Office.

Thomas J. Vilsack,
Secretary of Agriculture.

[FR Doc. 2011-4128 Filed 2-25-11; 8:45 am]

BILLING CODE 3410-90-M